NUCLEAR REGULATORY COMMISSION

[NRC-2012-0274]

Biweekly Notice; Applications and Amendments to Facility Operating Licenses and Combined Licenses Involving No Significant Hazards Considerations

Background

Pursuant to Section 189a. (2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from October 18, 2012 to October 31, 2012. The last biweekly notice was published on October 30, 2012 (77 FR 65720).

ADDRESSES: You may access information and comment submissions related to this document, which the NRC possesses and are publicly available, by searching on http://www.regulations.gov under Docket ID NRC-2012-0274. You may submit comments by any of the following methods:

• Federal Rulemaking Web site: Go to http://www.regulations.gov and search for Docket ID NRC-2012-0274. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2012-0274 when contacting the NRC about the availability of information regarding this document. You may access information related to this document, which the NRC possesses and is publicly available, by the following methods:

• Federal Rulemaking Web site: Go to http://www.regulations.gov and search for Docket ID NRC-2012-0274.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2012-0274 in the subject line of your comment submission, in order to ensure that the NRC is able to make your comment submission available to the public in this docket.

The NRC cautions you not to include identifying or contact information that that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in section 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in the NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866-672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the following three factors in 10 CFR 2.309(c)(1): (i) The information upon which the filing is based was not previously available; (ii) the information upon which the filing is based is materially different from information previously available; and (iii) the filing has been submitted in a timely fashion based on the availability of the subsequent information.

For further details with respect to this license amendment application, see the application for amendment which is available for public inspection at the NRC's PDR, located at One White Flint North, Room O1-F21, 11555 Rockville Pike (first floor), Rockville, Maryland 20852. Publicly available documents created or received at the NRC are accessible electronically through ADAMS in the NRC's Library at http://www.nrc.gov/reading-rm/adams.html. Persons who do not have access to ADAMS or who encounter problems in accessing the documents located in ADAMS, should contact the NRC's PDR Reference staff at 1-800-397-4209, 301-415-4737, or by email to pdr.resource@nrc.gov.

Entergy Operations, Inc., System Energy Resources, Inc., South Mississippi Electric Power Association, and Entergy Mississippi, Inc., Docket No. 50-416, Grand Gulf Nuclear Station, Unit 1, Claiborne County, Mississippi

Date of amendment request: October 2, 2012.

Description of amendment request: The amendment would revise the Technical Specifications (TSs) to support operations with 24-month fuel cycles in accordance with the guidance of NRC Generic Letter 91-04, “Changes in Technical Specification Surveillance Intervals to Accommodate a 24 Month Fuel Cycle,” dated April 2, 1991. In addition, consistent with this guidance, the amendment would change testing frequencies from 18 to 24 months in TS 5.5.7, “Ventilation Filter Testing Program (VFTP).”

Basis for proposed no significant hazards consideration determination: As required by 10 CFR 50.91(a), the licensee has provided its analysis of the issue of no significant hazards consideration, which is presented below:

1. Do the proposed changes involve a significant increase in the probability or consequences of an accident previously evaluated?

Response: No.

The proposed TS changes involve a change in the surveillance testing intervals to facilitate a change in the operating cycle length. The proposed TS changes do not physically impact the plant. The proposed TS changes do not degrade the performance of, or increase the challenges to, any safety systems assumed to function in the accident analysis. The proposed TS changes do not impact the usefulness of the SRs in evaluating the operability of required systems and components, or the way in which the surveillances are performed. In addition, the frequency of surveillance testing is not considered an initiator of any analyzed accident, nor does a revision to the frequency introduce any accident initiators.

Therefore, the proposed change does not involve a significant increase in the probability of an accident previously evaluated.

The consequences of a previously evaluated accident are not significantly increased. The proposed change does not affect the performance of any equipment credited to mitigate the radiological consequences of an accident. Evaluation of the proposed TS changes demonstrated that the availability of credited equipment is not significantly affected because of other more frequent testing that is performed, the availability of redundant systems and equipment, and the high reliability of the equipment. Historical review of surveillance test results and associated maintenance records did not find evidence of failures that would invalidate the above conclusions.

Therefore, the proposed change does not involve a significant increase in the probability or consequences of an accident previously evaluated.

2. Do the proposed changes create the possibility of a new or different kind of accident from any accident previously evaluated?

Response: No.

The proposed TS changes involve a change in the surveillance testing intervals to facilitate a change in the operating cycle length. The proposed TS changes do not introduce any failure mechanisms of a different type than those previously evaluated, since there are no physical changes being made to the facility.

No new or different equipment is being installed. No installed equipment is being operated in a different manner. As a result, no new failure modes are being introduced. The way surveillance tests are performed remains unchanged. A historical review of surveillance test results and associated maintenance records indicated there was no evidence of any failures that would invalidate the above conclusions.

Therefore, the proposed change does not create the possibility of a new or different kind of accident from any previously evaluated.

3. Do the proposed changes involve a significant reduction in a margin of safety?

Response: No.

The proposed TS changes involve a change in the surveillance testing intervals to facilitate a change in the operating cycle length. The impact of these changes on system availability is not significant, based on other more frequent testing that is performed, the existence of redundant systems and equipment, and overall system reliability. Evaluations have shown there is no evidence of time dependent failures that would impact the availability of the systems. The proposed changes do not significantly impact the condition or performance of structures, systems, and components relied upon for accident mitigation. The proposed changes do not result in any hardware changes or in any changes to the analytical limits assumed in accident analyses. Existing operating margin between plant conditions and actual plant setpoints is not significantly reduced due to these changes. The proposed changes do not significantly impact any safety analysis assumptions or results.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Exelon Generation Company, LLC (EGC), Docket Nos. STN 50-456 and STN 50-457, Braidwood Station, Units 1 and 2 (Braidwood), Will County, Illinois Docket Nos. STN 50-454 and STN 50-455, Byron Station, Units 1 and 2 (Byron), Ogle County, Illinois

Date of amendment request: July 23, 2012.

Description of amendment request: The proposed amendment would modify Braidwood and Byron Technical Specifications (TS) to delete the limiting condition for operation (LCO) note associated with TS 3.5.3, “[Emergency Core Cooling System] ECCS—Shutdown,” to reflect current plant configuration and ensure Residual Heat Removal (RHR) system operability meets the TS 3.5.3 LCO requirement.

Basis for proposed no significant hazards consideration determination: As required by 10 CFR 50.91(a), the licensee has provided its analysis of the issue of no significant hazards consideration, which is presented below:

1. Does the proposed change involve a significant increase in the probability or consequences of an accident previously evaluated?

Response: No.

The proposed changes to delete the TS 3.5.3 LCO Note will ensure that one train of RHR remains aligned for ECCS mode of operation as required to mitigate an accident described in the Updated Final Safety Analysis Report (UFSAR). The proposed changes to not affect the design, operational characteristics, and function of the ECCS and RHR systems to mitigate a design basis accident (DBA). Furthermore, the interfaces between the RHR system and other plants systems' operating functions, or the reliability of the RHR system are not impacted by the proposed changes. Since the ECCS and RHR systems are not accident initiators, the proposed changes do not impact the initiators or assumptions of analyzed accidents, nor do they impact the mitigation of accidents or transient events. Therefore, the ECCS and RHR systems will be capable of performing their accident mitigation functions, and the proposed deletion of the TS 3.5.3 LCO Note does not involve a significant increase in the probability of an accident.

The proposed changes will ensure that one train of RHR be available for ECCS mode of operation during MODE 4 to ensure that the RHR system, as a subsystem of ECCS, is operable for ensuring sufficient ECCS flow is available to the core for mitigating the consequences of a loss of coolant accident (LOCA). Thus, the proposed deletion of the TS 3.5.3 LCO Note does not involve a significant increase in the consequences of an accident.

Therefore, the proposed changes do not involve a significant increase in the probability or consequences of an accident previously evaluated.

2. Does the proposed change create the possibility of a new or different kind of accident from any accident previously evaluated?

Response: No.

The proposed deletion of the TS 3.5.3 LCO Note does not change the design function or operation of the RHR system components, or maintenance activities. The proposed changes do not change or introduce any new or different type of equipment, modes of system operation, failure mechanisms, malfunctions, or accident initiators. The proposed changes will ensure that one train of ECCS is operable to mitigate the consequences of a LOCA as previously assumed in the UFSAR.

Therefore, the proposed changes do not create the possibility of a new or different kind of accident from any previously evaluated.

3. Does the proposed change involve a significant reduction in a margin of safety?

Response: No.

This proposed changes delete the TS 3.5.3 LCO Note will ensure that TS 3.5.3 LCO requirements is met to ensure that sufficient ECCS flow is available to the core following a DBA, such as a LOCA, as described in the UFSAR. The proposed changes will review the existing non-conservative TS to reflect current plant configuration that the Reactor Coolant System (RCS) temperature must be reduced to less than or equal to 200 °F [degrees Fahrenheit] in order to eliminate the potential for flashing of hot water within the isolated RHR system hot leg suction piping during transfer to the ECCS recirculation sump. The proposed changes will ensure the RHR system operability to meet TS 3.5.3 LCO requirement and do not affect the ability of the RHR system to provide long-term capability for core cooling following a LOCA.

Therefore, the proposed changes do not result in a significant reduction in the margin of safety.

Based on the above, EGC concludes that the proposed amendments do not involve a significant hazards consideration under the standards set forth in 10 CFR 50.92(c), and, accordingly, a finding of no significant hazards consideration is justified.

The NRC staff has reviewed the licensee's analysis and, based on this review, it appears that the three standards of 10 CFR 50.92(c) are satisfied. Therefore, the NRC staff proposes to determine that the requested amendments involve no significant hazards consideration.

Attorney for licensee: Mr. Bradley J. Fewell, Associate General Counsel, Exelon Nuclear, 4300 Winfield Road, Warrenville, IL 60555.

NRC Branch Chief: Michael I. Dudek.

FirstEnergy Nuclear Operating Company (FENOC), et al., Docket No. 50-440, Perry Nuclear Power Plant, Unit 1 (PNPP), Lake County, Ohio

Date of amendment request: July 3, 2012.

Description of amendment request: The proposed amendment would modify PNPP's Technical Specifications (TS) 3.8.1, “AC [alternating current] Sources—Operating.” Specifically, the proposed amendment will modify nine surveillance requirements (SRs) by excluding Division 2 from the current mode restrictions, thus allowing performance of the subject SRs in any mode of plant operation. The proposed amendment also deletes expired TS 3.8.1 provisions regarding use of a delayed access circuit.

Basis for proposed no significant hazards consideration determination: As required by 10 CFR 50.91(a), the licensee has provided its analysis of the issue of no significant hazards consideration, which is presented below:

1. Does the proposed change involve a significant increase in the probability or consequences of an accident previously evaluated?

Response: No.

This amendment request proposed to remove MODE restrictions on certain Division 3 AC sources surveillance tests, allowing testing in any MODE of operation. The Division 3 AC sources, including the diesel generator (DG) and its associated emergency loads are accident mitigating features, not accident initiators. This proposed amendment does not change the design function of the Division 3 AC sources, including the DG of any of its required loads, and does not change the way the systems and plant are operated or maintained. This proposed amendment does not impact any plant systems that are accident initiators and does not adversely impact any accident mitigating systems.

The proposed amendment does not affect the operability requirements for the AC sources, as verification of such operability will continue to be performed as required. Continued verification of operability supports the capability of Division 2 AC sources to perform their required design functions of providing emergency power to high pressure core spray (HPCS) system equipment, consistent with the plant safety analyses. Limiting testing to only one AC source at a time also ensures that design basis requirements are met. Should a fault occur while testing the Division 3 AC sources, there would be no significant impact on any accident consequences since Division 1 and 2 AC sources and their respective emergency loads would be available to provide the safety functions necessary to shut down the unit and maintain it in a safe shutdown condition.

Removing the MODE restrictions associated with certain Division 3 surveillance requirements, this allowing testing to occur in any MODE of operation, will not significantly increase the probability of an accident previously evaluated because the Division 3 DG and its emergency loads are accident mitigation features, not accident initiators.

Removing the MODE restrictions associated with certain Division 3 surveillance requirements, this allowing testing to occur in any MODE of operation, will not change the dose analyses associated with the [Updated Safety Analysis Report] USAR Chapter 15 accidents because accident mitigation functions and requirements remain unchanged.

This amendment request also proposes to remove temporary TS 3.8.1 provisions related to the use of the delayed access circuit. Effective October 17, 2011, the temporary provisions support plant startup and normal operation until the Unit 1 startup transformer was returned to service. The provisions expired on December, 12, 2011, after the Unit 1 startup transformer was returned to service. Removing the provisions will not increase the probability of an accident previously evaluated since the provisions are no longer required or applicable. Removing the provisions will not change any of the dose analyses associated with the USAR Chapter 15 accidents because accident mitigation functions and requirements remain unchanged as a result of the removal. Removing the expired provisions does not affect or alter any other aspect of this amendment request.

Therefore, the proposed amendment does not involve a significant increase in the probability or consequences of an accident previously evaluated.

2. Does the proposed change create the possibility of a new or different kind of accident from any accident previously evaluated?

Response: No.

This amendment request proposes to remove the MODE restrictions associated with certain Division 3 AC sources surveillance requirements. The proposed amendment does not change the design function of the Division 3 AC sources or any required loads, and does not change the way the systems and plant are operated or maintained. This proposed amendment does not impact any plan systems that are accident initiators and does not adversely impact any accident mitigating systems. Performance of these surveillance tests in any operating MODE will continue to verify operability of the Division 3 AC sources.

This amendment request also proposes to remove temporary TS 3.8.1 provisions related to the use of the delayed access circuit. Effective October 17, 2011, the temporary provisions support plant startup and normal operation until the Unit 1 startup transformer was returned to service. The provisions expired on December, 12, 2011, after the Unit 1 startup transformer was returned to service. Removing the provisions will not increase the probability of an accident previously evaluated since the provisions are no longer required or applicable. Removing the expired provisions does not affect or alter any other aspect of this amendment request.

Therefore, the proposed amendment does not create the possibility of a new or different kind of accident from any accident previously evaluated.

3. Does the proposed change involve a significant reduction in a margin of safety?

Response: No.

This amendment request proposes to remove the MODE restrictions associated with certain Division 2 diesel generator surveillance requirements. Margin of safety is related to the ability of the fission product barriers (fuel cladding, reactor coolant system, and primary containment) to perform their design functions during and following postulated accidents. This proposed amendment does not involve or affect fuel cladding, reactor coolant system, or the primary containment. Performing Division 3 surveillance testing online increases the Division 3 DG and HPCS system availability during refueling outages and allows the testing to be conducted when both Division 1 and 2 systems are required to be OPERABLE, not significantly difference than when performed other Division 3 surveillance tests that do not have similar MODE restrictions.

This amendment request also proposes to remove temporary TS 3.8.1 provisions related to the use of the delayed access circuit. Effective October 17, 2011, the temporary provisions support plant startup and normal operation until the Unit 1 startup transformer was returned to service. The provisions expired on December, 12, 2011, after the Unit 1 startup transformer was returned to service. Removing the provisions will not increase the probability of an accident previously evaluated since the provisions are no longer required or applicable. Removing the expired provisions does not affect or alter any other aspect of this amendment request. When they were effective, the provisions did not involve fuel cladding, reactor coolant system, or the primary containment. Removing the provisions does not involve or affect fuel cladding, reactor coolant system, or the primary containment. The proposed amendment does not involve a physical change to the plant, methods of plant operation, or maintenance of equipment important to safety.

Therefore, the proposed amendment does not result in any reduction in a margin of safety.

Based on the above, FENOC concludes that the proposed amendment does not involve a significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the requested amendment involves no significant hazards consideration.

Attorney for licensee: David W. Jenkins, Attorney, FirstEnergy Corporation, Mail Stop. A-GO-15, 76 South Main Street, Akron, OH 44308.

NRC Acting Branch Chief: Michael I. Dudek.

Luminant Generation Company LLC, Docket Nos. 50-445 and 50-446, Comanche Peak Nuclear Power Plant, Units 1 and 2, Somervell County, Texas

Date of amendment request: July 12, 2012, as supplemented by letter dated October 23, 2012.

Brief description of amendment request: The amendments would revise Technical Specification (TS) 5.7.1, entitled “High Radiation Areas with Dose Rates not Exceeding 1.0 rem [roentgen equivalent man]/hour at 30 Centimeters from the Radiation Source or from any Surface Penetrated by the Radiation,” and 5.7.2, entitled “High Radiation Areas with Dose Rates Greater than 1.0 rem/hour at 30 Centimeters from the Radiation Source or from any Surface Penetrated by the Radiation, but less than 500 rads/hour at 1 Meter from the Radiation Source or from any Surface Penetrated by the Radiation,” to allow entry into high radiation areas by personnel continuously escorted by individuals qualified in radiation protection procedures as long as the escorted personnel receive a pre-job briefing prior to entry into such areas . In addition, the amendment would incorporate an unrelated editorial change to TS Table 3.3.3-1, “Post Accident Monitoring Instrumentation.” The title for the TS Table 3.3.1-1 column “CONDITION REFERENCED FROM REQUIRED ACTION E.1,” will be corrected to read, “CONDITION REFERENCED FROM REQUIRED ACTION D.1,” to be consistent with Required Actions for Condition D of TS 3.3.3.

Basis for proposed no significant hazards consideration determination: As required by 10 CFR 50.91(a), the licensee has provided its analysis of the issue of no significant hazards consideration, which is presented below:

1. Do the proposed changes involve a significant increase in the probability or consequences of an accident previously evaluated?

Response: No.

The proposed change to the Technical Specifications has no impact on accident initiation or mitigation. Therefore, the proposed changes do not involve a significant increase in the probability or consequences of an accident previously evaluated.

2. Do the proposed changes create the possibility of a new or different kind of accident from any accident previously evaluated?

Response: No.

The proposed change to the Technical Specifications has no impact on accident initiation or mitigation.

Therefore, the proposed change does not create the possibility of a new or different kind of accident from any previously evaluated.

3. Do the proposed changes involve a significant reduction in a margin of safety?

Response: No.

The proposed change to the Technical Specifications has no impact on accident initiation or mitigation. The proposed change will allow for the positive radiation protection control of activities in High Radiation Areas. This is consistent with the requirements of [10 CFR 20.1601(a)] and [10 CFR 20.1601(c)].

Therefore the proposed change does not involve a reduction in a margin of safety.

The NRC staff has reviewed the licensee's analysis and, based on this review, it appears that the three standards of 10 CFR 50.92(c) are satisfied. Therefore, the NRC staff proposes to determine that the amendment request involves no significant hazards consideration.

Attorney for licensee: Timothy P. Matthews, Esq., Morgan, Lewis and Bockius, 1800 M Street, NW., Washington, DC 20036.

NRC Branch Chief: Michael T. Markley.

Omaha Public Power District, Docket No. 50-285, Fort Calhoun Station, Unit 1, Washington County, Nebraska

Date of amendment request: March 9, 2012.

Description of amendment request: The proposed amendment would relocate Technical Specification (TS) Limiting Condition of Operation (LCO) 2.17, Miscellaneous Radioactive Material Sources, and the associated surveillance requirement (SR) 3.13, Radioactive Material Sources Surveillance, from the TSs. NUREG-1432, Revision 3, “Standard Technical Specifications, Combustion Engineering Plants,” June 2004 (ADAMS Accession No. ML041830597), does not contain a TS or SR for radioactive sources surveillance. The operability and surveillance requirements for leak checking of miscellaneous radioactive material sources will be incorporated into the Fort Calhoun Station Updated Safety Analysis Report and associated plant procedures.

Basis for proposed no significant hazards consideration determination: As required by 10 CFR 50.91(a), the licensee has provided its analysis of the issue of no significant hazards consideration, which is presented below:

1. Does the proposed amendment involve a significant increase in the probability or consequences of an accident previously evaluated?

Response: No.

Miscellaneous radioactive sources are not part of any transient or accident analysis.

The proposed changes conform to the Nuclear Regulatory Commission's (NRC's) regulatory guidance regarding the content of plant TS as identified in 10 CFR 50.36 and NRC publication NUREG-1432.

Therefore, the proposed change does not involve a significant increase in the probability or consequences of an accident previously evaluated.

2. Does the proposed amendment create the possibility of a new or different kind of accident from any accident previously evaluated?

Response: No.

The proposed change relocates the requirements for leak checking miscellaneous radioactive material sources to a licensee controlled document subject to the controls of 10 CFR 50.59. This change does not alter the physical design, safety limits, or safety analysis assumptions associated with the operation of the plant. Hence, the proposed change does not introduce any new accident initiators, nor does it reduce or adversely affect the capabilities of any plant structure or system in the performance of their safety function.

Therefore, the proposed change does not create the possibility of a new or different kind of accident from any previously evaluated.

3. Does the proposed amendment involve a significant reduction in a margin of safety?

Response: No.

The proposed change relocates the requirements for leak checking miscellaneous radioactive material sources to a licensee controlled document subject to the controls of 10 CFR 50.59. This change does not alter any safety margins.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Branch Chief: Michael T. Markley.

South Carolina Electric and Gas Docket Nos.: 52-027 and 52-028, Virgil C. Summer Nuclear Station (VCSNS) Units 2 and 3, Fairfield County, South Carolina

Date of amendment request: September 26, 2012.

Description of amendment request: The proposed change would amend Combined License Nos.: NPF-93 and NPF-94 for Virgil C. Summer Nuclear Station (VCSNS) Units 2 and 3, respectively, by improving the translation of Tier 2 Information into Tier 1 Table 3.3-1 Definition of Wall Thicknesses for Nuclear Island Buildings, Turbine Building, and Annex Building for technical consistency, clarity, and completeness. This change is identified as an administrative change. There will be no design changes based on the improved translation of Tier 2 information.

Basis for proposed no significant hazards consideration determination: As required by 10 CFR 50.91(a), the licensee has provided its analysis of the issue of no significant hazards consideration, which is presented below:

1. Does the proposed amendment involve a significant increase in the probability or consequences of an accident previously evaluated?

Response: No.

Plant-specific DCD Tier 1 (and corresponding COL Appendix C) Table 3.3-1 proposed changes are for technical consistency, clarity and completeness, and do not involve a design or plant-specific DCD Tier 2 change. The changes do not affect the prevention and mitigation of any abnormal events, e.g., accidents, anticipated operational occurrences, earthquakes, floods and turbine missiles, or their safety or design analyses. The probabilistic risk assessment (plant-specific DCD Chapter 19) is not affected. No safety-related or nonsafety-related structure, system, component (SSC) or function is affected. The Tier 1 changes do not affect any SSC accident initiator or initiating sequence of events, and thus, the probabilities of the accidents evaluated in the plant-specific DCD or UFSAR are not affected. Because the changes do not involve any safety-related SSC or function used to mitigate an accident, the consequences of the accidents evaluated in the plant-specific DCD or UFSAR are not affected.

Therefore, the proposed activity does not involve a significant increase in the probability or consequences of an accident previously evaluated.

2. Does the proposed amendment create the possibility of a new or different kind of accident from any accident previously evaluated?

Response: No.

Plant-specific DCD Tier 1 (and corresponding COL Appendix C) Tier 1 Table 3.3-1 proposed changes are for technical consistency, clarity and completeness, and do not involve a design or plant-specific DCD Tier 2 change. No fire, design or safety analysis is affected. No system or design function or equipment qualification will be affected by the changes. The changes do not result in a new failure mode, malfunction or sequence of events that could affect safety or safety-related equipment. This activity will not allow for a new fission product release path, result in a new fission product barrier failure mode, or create a new sequence of events that would result in significant fuel cladding failures.

Therefore, the proposed change does not create the possibility of a new or different kind of accident from any accident previously evaluated.

3. Does the proposed amendment involve a significant reduction in a margin of safety?

Response: No.

Plant-specific DCD Tier 1 (and corresponding COL Appendix C) Tier 1 Table 3.3-1 proposed changes are for technical consistency, clarity and completeness, and do not involve a design or plant-specific DCD Tier 2 change. No fire, design or safety analysis is affected. No system or design function or equipment qualification will be affected by the changes. The Table 3.3-1 building wall, roof and floor changes are only descriptive. The requested changes will not affect any safety-related equipment, design code, function, design analysis, safety analysis input or result, or design/safety margin. No safety analysis or design basis acceptance limit/criterion is involved by the requested changes, thus, no margin of safety is reduced.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Ms. Kathryn M. Sutton, Morgan, Lewis & Bockius LLC, 1111 Pennsylvania Avenue NW, Washington, DC 20004-2514.

NRC Branch Chief: Mark E. Tonacci.

Southern Nuclear Operating Company Docket Nos.: 52-025 and 52-026, Vogtle Electric Generating Station (VEGP) Units 3 and 4, Burke County, Georgia

Date of amendment request: September 21, 2012.

Description of amendment request: The proposed change would amend Combined License Nos.: NPF-91 and NPF-92 for VEGP Units 3 and 4, respectively, by improving the translation of Tier 2 Information into Tier 1 Table 3.3-1 Definition of Wall Thicknesses for Nuclear Island Buildings, Turbine Building, and Annex Building for technical consistency, clarity, and completeness. This change is identified as an administrative change. There will be no design changes based on the improved translation of Tier 2 information.

Basis for proposed no significant hazards consideration determination: As required by 10 CFR 50.91(a), the licensee has provided its analysis of the issue of no significant hazards consideration, which is presented below:

1. Does the proposed amendment involve a significant increase in the probability or consequences of an accident previously evaluated?

Response: No.

Plant-specific DCD Tier 1 (and corresponding COL Appendix C) Table 3.3-1 proposed changes are for technical consistency, clarity and completeness, and do not involve a design or plant-specific DCD Tier 2 change. The changes do not affect the prevention and mitigation of any abnormal events, e.g., accidents, anticipated operational occurrences, earthquakes, floods and turbine missiles, or their safety or design analyses. The probabilistic risk assessment (plant-specific DCD Chapter 19) is not affected. No safety-related or nonsafety-related structure, system, component (SSC) or function is affected. The Tier 1 changes do not affect any SSC accident initiator or initiating sequence of events, and thus, the probabilities of the accidents evaluated in the plant-specific DCD or UFSAR are not affected. Because the changes do not involve any safety-related SSC or function used to mitigate an accident, the consequences of the accidents evaluated in the plant-specific DCD or UFSAR are not affected.

Therefore, the proposed activity does not involve a significant increase in the probability or consequences of an accident previously evaluated.

2. Does the proposed amendment create the possibility of a new or different kind of accident from any accident previously evaluated?

Response: No.

Plant-specific DCD Tier 1 (and corresponding COL Appendix C) Tier 1 Table 3.3-1 proposed changes are for technical consistency, clarity and completeness, and do not involve a design or plant-specific DCD Tier 2 change. No fire, design or safety analysis is affected. No system or design function or equipment qualification will be affected by the changes. The changes do not result in a new failure mode, malfunction or sequence of events that could affect safety or safety-related equipment.

This activity will not allow for a new fission product release path, result in a new fission product barrier failure mode, or create a new sequence of events that would result in significant fuel cladding failures.

Therefore, the proposed change does not create the possibility of a new or different kind of accident from any accident previously evaluated.

3. Does the proposed amendment involve a significant reduction in a margin of safety?

Response: No.

Plant-specific DCD Tier 1 (and corresponding COL Appendix C) Tier 1 Table 3.3-1 proposed changes are for technical consistency, clarity and completeness, and do not involve a design or plant-specific DCD Tier 2 change. No fire, design or safety analysis is affected. No system or design function or equipment qualification will be affected by the changes. The Table 3.3-1 building wall, roof and floor changes are only descriptive. The requested changes will not affect any safety-related equipment, design code, function, design analysis, safety analysis input or result, or design/safety margin. No safety analysis or design basis acceptance limit/criterion is involved by the requested changes, thus, no margin of safety is reduced.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Mark E. Tonacci.

Tennessee Valley Authority, Docket No. 50-390, Watts Bar Nuclear Plant (WBN), Unit 1, Rhea County, Tennessee

Date of amendment request: July 19, 2012.

Description of amendment request: The proposed amendment would modify the Updated Final Safety Analysis Report (UFSAR) hydrologic analysis and results, including the design based flood (DBF) elevations required to be considered in the flood protection of safety-related systems, structures, or components (SSC) during external flooding events, and verify the adequacy of the warning time for both rainfall and seismically induced dam failure floods. The proposed changes include updated input information and methodology, which includes the use of the U.S. Army Corps of Engineers' Hydrologic Modeling System and River Analysis System software and temporary flood barriers to prevent overtopping of earthen embankments. As a result of these proposed changes, DBF elevations at the WBN Unit 1 site are revised. These changes are determined to impact existing flooding protection requirements for several WBN Unit 1 SSCs, which include the Thermal Barrier Booster (TBB) pump motors and Essential Raw Cooling Water (ERCW) equipment required for flood mode operation located in the Intake Pumping Station (IPS). To restore margin for the TBB pump motors, a temporary flood protection barrier has been designed to be installed around them prior to a Stage I flood warning; for the ERCW equipment, a compensatory measure of staged sandbags to be constructed into a berm at the IPS at any time prior to or during a Stage I flood warning has been implemented. Permanent plant modifications are planned to restore or gain additional margin.

Basis for proposed no significant hazards consideration determination: As required by 10 CFR 50.91(a), the licensee has provided its analysis of the issue of no significant hazards consideration, which is presented below:

1. Does the proposed amendment involve a significant increase in the probability or consequence of an accident previously evaluated?

Response: No.

Although the proposed changes require some physical changes to plant systems, structures, or components to add flood protection features to restore or gain additional margin between the revised DBF elevations and limiting safety-related systems, structures, and components; they do not (1) prevent the safety function of any safety-related system, structure, or component during an external flood; (2) alter, degrade, or prevent action described or assumed in any accident described in the WBN Unit 1 UFSAR from being performed since the safety-related systems, structures, or components remain adequately protected from the effects of external floods, considering the temporary compensatory measures in place and upon completion of planned permanent plant modifications; (3) alter any assumptions previously made in evaluating radiological consequences; or (4) affect the integrity of any fission product barrier.

Therefore, the proposed change does not involve a significant increase in the probability or consequences of an accident previously evaluated.

2. Does the proposed amendment create the possibility of a new or different kind of accident from any accident previously evaluated?

Response: No.

The proposed changes do not introduce any new accident causal mechanisms, nor do they impact any plant systems that are potential accident initiators.

Therefore, the proposed amendment does not create the possibility of a new or different kind of accident from any accident previously evaluated.

3. Does the proposed amendment involve a significant reduction in a margin of safety?

Response: No.

The proposed changes do not alter the permanent plant design, including instrument set points, that is the basis of the assumptions contained in the safety analyses. However, permanent plant modifications are planned to restore or gain additional margin between the revised DBF elevations and limiting safety-related systems, structures, and components. Although the results of the updated hydrologic analysis increase the DBF elevations required to be considered in the flood protection of safety-related systems, structures, or components during external flooding events, the proposed changes do not prevent any safety-related systems, structures, or components from performing their required functions during an external flood considering the temporary compensatory measures in place and upon completion of planned permanent plant modifications. Consistent with existing regulatory guidance including regulatory recommendations and discussions regarding calibration of hydrology models using historical flood data and consideration of sensitivity analyses, the hydrologic analysis is considered to be a reasonable best estimate that has accounted for uncertainties using the best data available.

Therefore, the proposed amendment does not involve a significant reduction in the margin of safety.

The NRC staff has reviewed the licensee's analysis and, based on this review, it appears that the three standards of 10 CFR 50.92(c) are satisfied. Therefore, the NRC staff proposes to determine that the amendment request involves no significant hazards consideration.

Attorney for licensee: General Counsel, Tennessee Valley Authority, 400 West Summit Hill Drive, ET 11A, Knoxville, Tennessee 37902.

NRC Acting Branch Chief: Jessie F. Quichocho.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Entergy Operations, Inc., Docket No. 50-382, Waterford Steam Electric Station, Unit 3, St. Charles Parish, Louisiana

Date of amendment request: October 13, 2011, as supplemented by letters dated November 25, 2011, January 18, 2012, April 3, 2012, May 22, 2012 and July 17, 2012.

Brief description of amendment: The amendment revised Technical Specification (TS) 3/4.7.4, Table 3.7-3, “Ultimate Heat Sink Minimum Fan Requirements per Train,” to account for replacement steam generators and an inappropriate analysis methodology.

Date of issuance: October 31, 2012.

Effective date: As of the date of issuance and shall be implemented 60 days from the date of issuance.

Amendment No.: 237.

Facility Operating License No. NPF-38: The amendment revised the Facility Operating License and Technical Specifications.

Date of initial notice in Federal Register: April 17, 2012 (77 FR 22813). The supplemental letters dated November 25, 2011, January 18, 2012, April 3, 2012, May 22, 2012, and July 17, 2012, provided additional information that clarified the application, did not expand the scope of the application as originally noticed, and did not change the staff's original proposed no significant hazards consideration determination as published in the Federal Register.

The Commission's related evaluation of the amendment is contained in a Safety Evaluation dated October 31, 2012.

No significant hazards consideration comments received: No.

Luminant Generation Company LLC, Docket Nos. 50-445 and 50-446, Comanche Peak Nuclear Power Plant, Units 1 and 2, Somervell County, Texas

Date of amendment request: March 28, 2012.

Brief description of amendments: The amendments revised Technical Specification (TS) 5.5.9, “Unit 1 Model D76 and Unit 2 Model D5 Steam Generator (SG) Program,” and TS 5.6.9, “Unit 1 Model D76 and Unit 2 Model D5 Steam Generator Tube Inspection Report,” to permanently exclude portions of the Comanche Peak Nuclear Power Plant (CPNPP), Unit 2, Model D5 SG tube below the top of the SG tubesheet from periodic SG tube inspections and to provide permanent reporting requirements specific to CPNPP, Unit 2. The proposed alternate repair criteria would replace similar, interim criteria for CPNPP, Unit 2, that was applicable during Refueling Outage 12 (spring of 2011) and the subsequent (current) operating cycle approved by NRC by letter dated April 6, 2011.

Date of issuance: October 18, 2012.

Effective date: As of the date of issuance and shall be implemented prior to MODE 4 entry during startup from Unit 2 Refueling Outage 13.

Amendment Nos.: Unit 1-158; Unit 2-158.

Facility Operating License Nos. NPF-87 and NPF-89: The amendments revised the Facility Operating Licenses and Technical Specifications.

Date of initial notice in Federal Register: June 12, 2012 (77 FR 35074).

The Commission's related evaluation of the amendments is contained in a Safety Evaluation dated October 18, 2012.

No significant hazards consideration comments received: No.

Pacific Gas and Electric Company, Docket Nos. 50-275 and 50-323, Diablo Canyon Nuclear Power Plant, Units 1 and 2, San Luis Obispo County, California

Date of application for amendment: February 17, 2011, as supplemented by letters dated April 21, 2011, February 27, 2012, and July 2, 2012.

Brief description of amendment: The amendments revised Technical Specification (TS) 3.7.1, “Main Steam Safety Valves (MSSVs),” Table 3.7.1-1, “Maximum Allowable Power Range Neutron Flux High Setpoint with Inoperable MSSVs,” to remove a one-time note specific to DCPP, Unit 2 for Cycle 15, which is no longer applicable or needed. The licensee also proposed to revise the TS Bases, applicable to DCPP, Units 1 and 2, to reflect a new analysis methodology for establishing the reduced power range neutron flux high setpoint for one inoperable MSSV as listed in TS Table 3.7.1-1. By letter dated April 21, 2011, the licensee clarified that the proposed revision to the TS Bases is a revision to the FSARU Sections 15.2.7.3, “Results,” and 15.2.16, “References.”

Date of issuance: October 31, 2012.

Effective date: As of its date of issuance and shall be implemented within 90 days from the date of issuance. Implementation of the amendments shall also include revision of the Final Safety Analysis Report Update as described in the licensee's letter dated April 21, 2011.

Amendment Nos.: Unit 1—212; Unit 2—214.

Facility Operating License Nos. DPR-80 and DPR-82: The amendments revised the Facility Operating Licenses and Technical Specifications.

Date of initial notice in Federal Register: May 17, 2011 (76 FR 28475). The supplemental letters dated April 21, 2011, February 27, 2012, and July 2, 2012, provided additional information that clarified the application, did not expand the scope of the application as originally noticed, and did not change the staff's original proposed no significant hazards consideration determination as published in the Federal Register.

The Commission's related evaluation of the amendments is contained in a Safety Evaluation dated October 31, 2012.

No significant hazards consideration comments received: No.

Southern Nuclear Operating Company, Inc. Docket Nos. 52-025 and 52-026, Vogtle Electric Generating Plant (VEGP) Units 3 and 4, Burke County, Georgia

Date of amendment request: August 1, 2012.

Brief description of amendment: The amendment revises the Vogtle Units 3 and 4 plant-specific design control document Tier 2* information by revising the details associated with the nuclear island basemat concrete and reinforcement bar.

Date of issuance: October 18, 2012.

Effective date: As of the date of issuance and shall be implemented within 30 days of issuance.

Amendment No.: Unit 3-1, and Unit 4-1.

Facility Combined Licenses No. NPF-91 and NPF-92: Amendment revised the Facility Combined Licenses.

Date of initial notice in Federal Register: August 21, 2012 (77 FR 50538).

The Commission's related evaluation of the amendment is contained in a Safety Evaluation dated October 17, 2012.

No significant hazards consideration comments received: No.

Southern Nuclear Operating Company, Inc. Docket Nos. 52-025 and 52-026, Vogtle Electric Generating Plant (VEGP) Units 3 and 4, Burke County, Georgia

Date of amendment request: April 6, 2012 and revised on April 12 and May 7, 2012.

Brief description of amendment: The amendment revises the Vogtle Units 3 and 4 plant-specific design control document Tier 2* information by revising the upper tolerance on the Nuclear Island (NI) critical sections basemat thickness as identified in the plant specific design control document.

Date of issuance: October 25, 2012.

Effective date: As of the date of issuance and shall be implemented within 30 days of issuance.

Amendment No.: Unit 3-2, and Unit 4-2.

Facility Combined Licenses No. NPF-91 and NPF-92: Amendment revised the Facility Combined Licenses.

Date of initial notice in Federal Register: June 12, 2012 (77 FR 35076).

The Commission's related evaluation of the amendment is contained in a Safety Evaluation dated October 25, 2012.

No significant hazards consideration comments received: No.

Tennessee Valley Authority, Docket Nos. 50-327 and 50-328, Sequoyah Nuclear Plant, Units 1 and 2, Hamilton County, Tennessee

Date of application for amendment: May 23, 2012, supplemented by letter dated August 23, 2012 (TS-SQN-12-01).

Brief description of amendment: The amendments revised Technical Specification (TS) 3/4.8.1 to include a surveillance requirement to demonstrate the required offsite circuits OPERABLE at least once per 18 months by manually and automatically transferring the power supply to a 6.9 KiloVolt unit board from the normal supply to the alternate supply. This change is necessary as a result of the planned modifications to the plant design and operating configuration that will allow use of the unit station service transformers as a power supply to an offsite circuit.

Date of issuance: October 31, 2012.

Effective date: As of the date of issuance and shall be implemented prior to startup from Unit 2 fall 2012 refueling outage.

Amendment Nos.: Unit 1-332 and Unit 2-325.

Facility Operating License Nos. DPR-77 and DPR-79: Amendments revised the License and TSs.

Date of initial notice in Federal Register: July 24, 2012 (76 FR 43379). The supplement letter dated August 23, 2012, provided additional information that clarified the application, did not expand the scope of the application as originally noticed, and did not change the staff's original proposed no significant hazards consideration determination.

The Commission's related evaluation of the amendment is contained in a Safety Evaluation dated October 31, 2012.

No significant hazards consideration comments received: No.

Dated at Rockville, Maryland, this 1st day of November 2012.
For the Nuclear Regulatory Commission.
Michele G. Evans,
Director, Division of Operating Reactor Licensing, Office of Nuclear Reactor Regulation.

[FR Doc. 2012-27384 Filed 11-9-12; 8:45 am]

BILLING CODE 7590-01-P